DEPARTMENT OF THE INTERIOR

Bureau of Land Management

Notice of Seasonal Closure of Crystal Cave, Installation of Locking Gate, and Implementation of Crystal Cave Recreation Management Plan Including Visitor Use Permit System

AGENCY: Bureau of Land Management, Interior.

ACTION: Notice.

SUMMARY: Notice is hereby given that public access to Crystal Cave in the Salt Lake Field Office District of the Bureau of Land Management (BLM) will be controlled via a visitor use permit system to protect a maternity colony of Townsend's Big-eared Bats (Corynorhinus townsendii, a Utah sensitive species of special concern), to maintain the integrity of unique geologic cave formations, and to ensure visitor safety and compliance through the installation of a bat-friendly locking gate. The seasonal closure and permit system will begin upon the installation of the bat-friendly locking gate and implementation of the Crystal Cave Management Plan.

DATES: Public access to Crystal Cave will be controlled via permit system from Oct 1-March 31 and seasonally closed from April 1-Sept 30 each year. Future changes to these closure dates may be necessary as ongoing bat migration research at Crystal Cave is accomplished. Any changes to access dates will be given via subsequent Federal Register notice.

FOR FURTHER INFORMATION CONTACT: For information regarding public access to Crystal Cave, contact the BLM's Salt Lake Field Office at (801) 977-4300.

SUPPLEMENTARY INFORMATION: This seasonal closure to public access of Crystal Cave will serve to protect both a maternity colony of Townsend's Big-eared Bats and unique geologic cave formations, and to ensure visitor safety and compliance through the installation of a bat-friendly locking gate. The BLM decision is to manage access to Crystal Cave by constructing a bat-friendly gate and implementing a Cave Management Plan coupled with a visitor use permit system.

With increasing visitation, additional measures are needed to effectively protect the cave. Formations are being illegally removed and critical bat habitat is being disturbed. A permit system will provide an opportunity to educate the public on the importance of protecting critical cave resources.

Installation of a gate will provide the maximum security for Crystal Cave resources while minimizing the negative effects on the cave's ecology. The gate will be constructed as a joint effort between the Salt Lake BLM Field Office, Timpanogos Cave National Monument, Salt Lake NSS Grotto, the Timpanogos NSS Grotto, and other interested individuals.

The Crystal Cave Management Plan will set forth direction for long-range management planning and oversight of this important resource and identify specific management actions for recreation use at Crystal Cave. The management plan will emphasize recreational use while providing for natural resource conservation and enhancement.

The authority for establishing this restriction is found at 43 CFR 8364.1(a). This restriction does not apply to:

(1) Any Federal, State or local government officer or member of an organized rescue or fire fighting force while in the performance of an official duty.

(2) Any Bureau of Land Management employee, agent, contractor, or cooperator while in the performance of an official duty.

(3) Any Federal, State, local, or contract law enforcement officer, while in the performance of their official duties, or while enforcing this closure notice.

Violation of this closure is punishable by a fine not to exceed $100,000 and/or imprisonment not to exceed 12 months as provided in 43 CFR 8360-0.7 as further defined in 18 U.S.C. 3571.

Dated: September 20, 2004.
Glenn A. Carpenter,
Field Office Manager.

[FR Doc. 04-24662 Filed 11-1-04; 1:52 pm]

BILLING CODE 4310-DQ-P